DEPARTMENT OF THE INTERIOR

National Park Service

Notice of Intent to Repatriate Cultural Items: U.S. Department of Agriculture, Forest Service, Coronado National Forest, Tucson, AZ and Arizona State Museum, University of Arizona, Tucson, AZ; Correction

AGENCY: National Park Service, Interior.

ACTION: Notice; correction.

Notice is here given in accordance with the Native American Graves Protection and Repatriation Act (NAGPRA), 25 U.S.C. 3005, of the intent to repatriate cultural items in the possession of the U.S. Department of Agriculture, Forest Service, Coronado National Forest, Tucson, AZ, and in the possession of the Arizona State Museum, University of Arizona, Tucson, AZ, that meet the definition of “objects of cultural patrimony” under 25 U.S.C. 3001.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects the number of cultural items with the addition of one object of cultural patrimony, which was found in Arizona State Museum's collection after the publication of a Notice of Intent to Repatriate in the Federal Register on November 20, 2007 (FR Doc E7-22671, Page 65354).

In the Federal Register of November 20, 2007, the notice is corrected by substituting the following for paragraph 3:

The 59 cultural items are part of an archeological collection known as the Pinaleno Cotton Cache. The 59 cultural items are 2 caches of raw, native cotton, 3 ceramic jars, 3 ceramic bowls, 2 coiled basketry bowls, 1 coiled basketry pot stand, and 48 botanical and faunal items.

Representatives of any other Indian tribe that believes itself to be culturally affiliated with the objects of cultural patrimony should contact Dr. Frank E. Wozniak, NAGPRA Coordinator, Southwestern Region, USDA Forest Service, 333 Broadway Blvd., SE, Albuquerque, NM 87102, telephone (505) 842-3238, before December 26, 2008. Repatriation of the objects of cultural patrimony to the Tohono O'odham Nation of Arizona may proceed after that date if no additional claimants come forward.

The Coronado National Forest is responsible for notifying the Ak Chin Indian Community of the Maricopa (Ak Chin) Indian Reservation, Arizona; Gila River Indian Community of the Gila River Indian Reservation, Arizona; Hopi Tribe of Arizona; Salt River Pima-Maricopa Indian Community of the Salt River Reservation; and the Tohono O'odham Nation of Arizona that this notice has been published.

Dated: October 31, 2008
Sherry Hutt,
Manager, National NAGPRA Program.

[FR Doc. E8-28040 Filed 11-24-08; 8:45 am]

BILLING CODE 4312-50-S